DEPARTMENT OF DEFENSE

Office of the Secretary

32 CFR Part 18

Appointing Authority for Military Commissions

AGENCY: Department of Defense.

ACTION: Final rule.

SUMMARY: This final rule removes 32 CFR part 18 concerning the Appointing Authority for Military Commissions. This rule pertains to a military function of the United States and is exempt from rulemaking requirements. Previously, this rule was published for informational purposes only. As a result of the enactment of Military Commissions Act of 2009, the Deputy Secretary's issuance of the Regulation for Trial by Military Commissions on November 6, 2011, and his cancellation of DoD Directive 5105.70, “Appointing Authority for Military Commissions,” this regulation is no longer required.

DATES: Effective Date: This rule is effective January 16, 2013.

FOR FURTHER INFORMATION CONTACT: Patricia Toppings, 571-372-0485.

SUPPLEMENTARY INFORMATION: For additional information on Military Commissions, see Military Commissions Act of 2009.

List of Subjects in 32 CFR Part 18

Military law.

PART 18—[REMOVED]

Accordingly, by the authority of 5 U.S.C. 301, 32 CFR part 18 is removed.

Dated: January 10, 2013.
Morgan F. Park,
Alternate OSD Federal Register Liaison Officer, Department of Defense.

[FR Doc. 2013-00813 Filed 1-15-13; 8:45 am]

BILLING CODE 5001-06-P